DEPARTMENT OF THE TREASURY

Internal Revenue Service

26 CFR Parts 1

[TD 9623]

RIN 1545-BI99

Application of Section 108(i) to Partnerships and S Corporations; Correcting Amendment

AGENCY: Internal Revenue Service (IRS), Treasury.

ACTION: Correcting amendment.

SUMMARY: This document contains a correction to final regulations and removal of temporary regulations (T.D. 9623) that were published in the Federal Register on Wednesday, July 3, 2013. The final regulations relate to the application of section 108(i) of the Internal Revenue Code to partnerships and S corporations and provide rules regarding the deferral of discharge of indebtedness income and original issue discount deductions by a partnership or an S corporation with respect to reacquisitions of applicable debt instruments after December 31, 2008, and before January 1, 2011.

DATES: This correction is effective on November 29, 2019, and is applicable on or after July 2, 2013.

FOR FURTHER INFORMATION CONTACT: Mary Beth Carchia at (202) 317-5279 (not a toll-free number).

SUPPLEMENTARY INFORMATION:

Background

The final regulations and removal of temporary regulations (T.D. 9623) that is the subject of this correction are under section 108(i) of the Internal Revenue Code.

Need for Correction

As published July 3, 2013 (78 FR 39973), the final regulations and removal of temporary regulations (T.D. 9623) contain an error that may prove to be misleading and needs clarification.

List of Subjects in 26 CFR Part 1

Income taxes, Reporting and recordkeeping requirements.

Correction of Publication

Accordingly, 26 CFR part 1 is corrected by making the following correcting amendment:

PART 1—INCOME TAXES

Paragraph 1. The authority citation for part 1 is amended by removing the sectional authority for § 1.108(i)-2T to read in part as follows:

Authority: 26 U.S.C. 7805, unless otherwise noted.

* * * * *

Martin V. Franks,
Chief, Publications and Regulations Branch, Legal Processing Division, Associate Chief Counsel (Procedure and Administration) .

[FR Doc. 2019-25858 Filed 11-27-19; 8:45 am]

BILLING CODE 4830-01-P